Title 3—

The President

Proclamation 10371 of April 21, 2022

Declaration of National Emergency and Invocation of Emergency Authority Relating to the Regulation of the Anchorage and Movement of Russian-Affiliated Vessels to United States Ports

By the President of the United States of America

A Proclamation

By the authority vested in me as President by the Constitution and the laws of the United States of America, including the National Emergencies Act (50 U.S.C. 1601 et seq.) and section 1 of title II of Public Law 65-24, ch. 30, June 15, 1917, as amended (Magnuson Act) (46 U.S.C. 70051), I, JOSEPH R. BIDEN JR., President of the United States of America, hereby find and proclaim that:

The policies and actions of the Government of the Russian Federation to continue the premeditated, unjustified, unprovoked, and brutal war against Ukraine constitute a national emergency by reason of a disturbance or threatened disturbance of international relations of the United States. In order to address this national emergency and secure the observance of the rights and obligations of the United States, I hereby authorize the Secretary of Homeland Security (Secretary) to make and issue such rules and regulations as the Secretary may find appropriate to regulate the anchorage and movement of Russian-affiliated vessels, and delegate to the Secretary my authority to approve such rules and regulations, as authorized by the Magnuson Act.

Section 1. I hereby prohibit Russian-affiliated vessels from entering into United States ports.

Sec. 2. The prohibition of section 1 of this proclamation applies except:

(a) to Russian-affiliated vessels used in the transport of source material, special nuclear material, and nuclear byproduct material for which, and for such time as, the Secretary of Energy, in consultation with the Secretary of State and the Secretary of Commerce, determines that no viable source of supply is available that would not require transport by Russian-affiliated vessels; and

(b) to Russian-affiliated vessels requesting only to enter United States ports due to force majeure, solely to allow seafarers of any nationality to disembark or embark for purposes of conducting crew changes, emergency medical care, or for other humanitarian need.

Sec. 3. For the purposes of this proclamation:

(a) the term “Russian-affiliated vessels” means:

(i) vessels of Russian registry (i.e., the vessel is Russian flagged);

(ii) vessels that are Russian owned (i.e., the legal title of ownership of the vessel that appears on the ship's registration documents is the Government of the Russian Federation or a Russian company, citizen, or permanent resident); or

(iii) vessels that are Russian operated (i.e., a Russian company, citizen, or permanent resident is responsible for the commercial decisions concerning the employment of a ship and decides how and where that asset is employed).

(b) the term “byproduct material” has the same meaning given to that term in section 11(e) of the Atomic Energy Act of 1954, as amended (AEA) (42 U.S.C. 2014(e)).

(c) the term “source material” has the same meaning given to that term in section 11(z) of the AEA (42 U.S.C. 2014(z)).

(d) the term “special nuclear material” has the same meaning given to that term in section 11(aa) of the AEA (42 U.S.C. 2014(aa)).

Sec. 4. The prohibition set forth in this proclamation shall be effective as of 12:01 a.m. eastern daylight time on April 28, 2022, and shall be immediately transmitted to the Congress and published in the Federal Register.

IN WITNESS WHEREOF, I have hereunto set my hand this twenty-first day of April, in the year of our Lord two thousand twenty-two, and of the Independence of the United States of America the two hundred and forty-sixth.

[FR Doc. 2022-08872

Filed 4-21-22; 2:00 pm]

Billing code 3395-F2-P